DEPARTMENT OF VETERANS AFFAIRS

Privacy Act of 1974; System of Records

AGENCY: Veterans Health Administration (VHA), Department of Veterans Affairs (VA).

ACTION: Notice of a modified system of records.

SUMMARY: Pursuant to the Privacy Act of 1974, notice is hereby given that the VA is modifying the system of records titled “Veterans Health Administration Human Capital Management—VA” (161VA10A2) as set forth in the Federal Register. This system is used for the management of VHA executive and senior executive employees, as well as employees in national programs, for performance appraisal and bonus award entries, bonus and appraisal documentation storage, rank award and type given, supervisory training status, leadership and organization development, and employee position management.

DATES: Comments on this modified system of records must be received no later than 30 days after the date of publication in the Federal Register. If no public comment is received during the period allowed for comment or unless otherwise published in the Federal Register by the VA, the modified system of records will become effective a minimum of 30 days after the date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Veterans Health Administration Human Capital Management—VA” (161VA10A2). Comments received will be available at regulations.gov for public viewing, inspection or copies.

FOR FURTHER INFORMATION CONTACT: Stephania Griffin, VHA Chief Privacy Officer, Department of Veterans Affairs, 810 Vermont Avenue NW, Washington, DC 20420; Telephone number 704-245-2492 (this is not a toll-free number) or Stephania.griffin@va.gov.

SUPPLEMENTARY INFORMATION: VA is amending the system of records by revising the System Number; System Location; System Manager; Routine Uses of Records Maintained in the System; Policies and Practices for Storage of Records; Policies and Practices for Retention and Disposal of Records; Categories of Individuals Covered by the System; Exemptions Promulgated for the System; Record Access Procedure; Contesting Records Procedures; and Notification Procedure. VA is republishing the system notice in its entirety.

The System Number is being updated from 161VA10A2 to 161VA10 to reflect the current VHA organizational routing symbol.

The System Location is being modified to remove records being maintained at the “North Little Rock Campus, 2200 Fort Roots Drive, Little Rock, Arkansas 72114.” This section will now state that the records are maintained at “Olin E. Teague Veterans' Center, 1901 Veterans Memorial Drive, Temple, Texas 76504.”

The System Manager is being updated to remove “Manager of the Human Capital Systems and Services (HCSS), 55 North Robinson Avenue, Suite 1010, Oklahoma City, OK 73102. Director of Events Division, Employee Education System, #1 Jefferson Barracks Drive, Building 56, St. Louis, MO 63125. Deputy Director of Events Division, Employee Education System, #1 Jefferson Barracks Drive, Building 56, St. Louis, MO 63125. Associate Director of Web Architecture, Employee Education System, 2200 Fort Roots Drive, Building 11, North Little Rock, AR 72114.” This section will now state that “Official maintaining the system is Program Director, Workforce Management & Consulting, 55 N Robinson Avenue, Suite 1010, Oklahoma City, OK 73102. Telephone number 405-552-4345 (this is not a toll-free number).”

The language in Routine Uses of Records Maintained in the System is being updated. The language will now state

3. DOJ, Litigation, Administrative Proceeding: To the Department of Justice (DoJ), or in a proceeding before a court, adjudicative body, or other administrative body before which VA is authorized to appear, when:

(a) VA or any component thereof;

(b) Any VA employee in his or her official capacity;

(c) Any VA employee in his or her official capacity where DoJ has agreed to represent the employee; or

(d) The United States, where VA determines that litigation is likely to affect the agency or any of its components, is a party to such proceedings or has an interest in such proceedings, and VA determines that use of such records is relevant and necessary to the proceedings.

Policies and Practices for Storage of Records is being modified to remove “Records maintained on the HPDM1 Server and VACIN Server and backup servers in Little Rock, Arkansas and Cincinnati, Ohio.” This section will now state “Records are maintained on servers at the Olin E. Teague Veterans' Center, 1901 Veterans Memorial Drive, Temple, Texas 76504 and backup servers at Cyxtera—CenturyLink Federal Site 322, 350 E Cermak, Chicago, IL 60616.”

Policies and Practices for Retention and Disposal of Records is being modified to remove “The records disposed of in accordance with General records 4.3, item 031.” Since 4.3 has been superseded by 5.2.20 General Records Schedule (GRS), this section will now state “Records are disposed of in accordance with General Records Schedule (GRS) 5.2, Item 020.”

Categories of Records in the System is being modified to update language as “The records include information from Veterans Affairs Central Office (VACO), VHA, VHA Canteen, VHA Central Office, Veteran Benefits Administration (VBA), and National Cemetery Administration (NCA) personnel.”

Exemptions Promulgated for the System is being modified to remove, “Under Title 5 U.S.C. 552a(k)(6), the head of any agency may exempt any system of records within the agency from certain provisions of the Privacy Act, if the system of records is testing or examination material used solely to determine individual qualifications for appointment or promotion in the Federal service the disclosure of which would compromise the objectivity or fairness of the testing or examination process. The Talent Assessment Data within the system of records is considered examination material used to determine if an employee has the qualifications, leadership skills and experience necessary to become a Medical Center Director.

“Based upon the foregoing, the Secretary of Veterans Affairs has exempted this system of records, to the extent that it encompasses information pertaining to criminal law enforcement related activities from the following provisions of the Privacy Act of 1974, as permitted by 5 U.S.C. 552a(k)(6): 5 U.S.C. 552a(c)(3); 5 U.S.C. 552a(d)(1) through (4); 5 U.S.C. 552a(e)(1); 5 U.S.C. 552a(e)(4)(G), (H) and (I); 5 U.S.C. 552a(f); 5 U.S.C. 552a(e)(4)(G), (H) and (I); 5 U.S.C. 552a(f).

“Reasons for exemptions: The exemption of examination material in this system of records is necessary to ensure candid and complete assessment of individual qualifications for appointment or promotion in VHA. The disclosure of the Talent Assessment Data would compromise the objectivity of the examination for the individuals and the willingness to provide full, candid assessments by the reviewers.” This section is being removed as it was inserted in error based on the determination that the information in question was not eligible to be exempted under the Privacy Act.

Records Access Procedure is being amended to remove current language and replace with “Individuals seeking information on the existence and content of records in this system pertaining to them should contact the system manager in writing as indicated above or may write, call or visit the VA facility location where they are or were employed or made contact. A request for access to records must contain the requester's full name, address, telephone number, be signed by the requester, and describe the records sought in sufficient detail to enable VA personnel to locate them with a reasonable amount of effort.”

Contesting Records Procedures is being amended to remove current language and replace with “Individuals seeking to contest or amend records in this system pertaining to them should contact the system manager in writing as indicated above or may write, call or visit the VA facility location where they are or were employed or made contact. A request to contest or amend records must state clearly and concisely what record is being contested, the reasons for contesting it, and the proposed amendment to the record.

Notification Procedure is being amended to remove current language and replace with “Generalized notice is provided by the publication of this notice. For specific notice, see Record Access Procedure, above.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on May 10, 2023 for publication.

Dated: June 22, 2023.
Amy L. Rose,
Government Information Specialist, VA Privacy Service, Office of Compliance, Risk and Remediation, Office of Information and Technology, Department of Veterans Affairs.

SYSTEM NAME AND NUMBER:

“Veterans Health Administration Human Capital Management—VA” (161VA10).

SECURITY CLASSIFICATION:

Unclassified.

SYSTEM LOCATION:

Records are located at the Olin E. Teague Veterans' Center, 1901 Veterans Memorial Drive, Temple, Texas 76504.

SYSTEM MANAGER(S):

Official responsible for policies and procedures for the system is the Program Director, Workforce Management & Consulting, 55 N Robinson Avenue, Suite 1010, Oklahoma City, OK 73102. Telephone number 405-552-4345 (this is not a toll-free number).

AUTHORITY FOR MAINTENANCE OF THE SYSTEM:

38 U.S.C. 501(a).

PURPOSE(S) OF THE SYSTEM:

The purpose of these records is used for the management of VHA executive and senior executive employees, as well as employees in national programs, for performance appraisal and bonus award entries, bonus and appraisal documentation storage, rank award and type given, supervisory training status, leadership and organization development, and employee position management. Records will support pairing of learning and professional growth services by internal coaches and consultants to VA employees and leaders. Reports for workforce succession planning and analysis, VHA supervisory training status and course grade, bonus award dollar amounts per executive and non-executive employees are used by Performance Review Boards. The creation and filling of human resource positions, as well as data on the tracking of employee actions and assignments, is gathered for the purpose of business processing and analysis.

Workgroups are developed for survey use and data collection. Data that is entered and stored may be extracted from the database and used for other applications.

CATEGORIES OF INDIVIDUALS COVERED BY THE SYSTEM:

The records include information from Veterans Affairs Central Office (VACO), VHA, VHA Canteen, VHA Central Office, Veteran Benefits Administration (VBA), and National Cemetery Administration (NCA) personnel.

CATEGORIES OF RECORDS IN THE SYSTEM:

The records may include information related to people, work groups, workforce, funding, leadership classes, personal development plans, supervisory levels, mentor and coach roles and certifications, High Performance Development Model, senior executive information and recruitment, Human Resources automation, positions, organizations, the Talent Assessment Data and locations of VHA top management positions. Central Office and Veterans Integrated Service Network (VISN) managers and staff, facility directors, associate directors, chiefs of staff, and other senior clinical and administrative field managers' positions are included. The VHA Executive Management Program consists of the functions that fall under the purview of the VHA Executive Resources Board and the VHA Performance Review Board. Their functions include executive development, recruitment and placement; organizational analysis; succession planning; and performance assessment and recognition. The method used to collect this information is a proprietary system using relational technology. Information from this database is joined and expanded with information from the VHA executive program processes (e.g., organization, vacancies, recruitment efforts, performance). This combination of information is used in the administration of the Executive Resources Board and Performance Review Board functions. The sharing and development of information involving executives and organizations provide an effective means for accomplishing the Executive Resources Board and Performance Review Board objectives. The following modules are in VHA Leadership and Workforce Development: VHA Leadership and Workforce Development Home, Performance, Workgroups, VA National Database for Interns, Student Educational Experience Program, High Performance Development Model Funding, Executive Career Field Career Development Plan On-Line Application, Technical Career Field Preceptor On-Line Application, Career Development Plans, Workforce Planning, Class and Program Management (includes: Graduate Healthcare Administration Training Program, School at Work, Leadership Effectiveness Accountability Development, Technical Career Field, Executive Career Field Candidate Development Program, Senior Executive Service Candidate Development programs, Ethics, Professional Development Plans, Supervisory Training, Open Season (VHA Executive Recruitment), WebHR (Web-based Human Resource module), and Mentor Coach Certification). VHA Leadership and Workforce Development data contains:

1. Employee data, including Employee legal name, Social Security Number, Veteran's preference, Vietnam Era Veteran, Retirement plan, Tenure, Universal personal identification number, Universal username, Sex, Supervisory status, Supervisory training status, Work contact information, Facility, Network Identification, Home contact information, Home of record contact information, Assigned facility/organization, Pay plan, Pay grade, Step, Retirement eligibility, Union membership, Leave balances, Program, Credentials, Grievance, Disciplinary actions, Third-party and other employee actions, Work Setting status, Service Type, Clinical position type, Coaching preference, Performance standards and Resume.

2. Employee position data, including VHA Leadership and Workforce Development position titles, High Performance Development Management ratings, Position requestor contact data, Legal authority, Competitive Level, Fair Labor Standards Act category, Drug testing position indicator, Citizenship/Residency status, English language proficiency, Announcement status, Vacancy status, Date job opened, Days to open, Days to issue certificate, Date job closed, Job type/Occupation series/Grade, Pay plan, Work schedule, Appropriation code, Cost center, Date candidates referred, Date nomination received, Date to Executive Resources Board, Date credentials complete, Date recruitment received, Position start and end dates, Appointment start and end dates, Position location (Location complexity rating), Position reporting official (Position status, Supervisory, Bargaining unit, Senior executive pay band), Level of supervisory responsibility, Date of offer, Position status change, Reason for change, Position authorization data, Announcement tracking data (location and dates of actions), Area of consideration, Number of applicants (internal, external, not qualified), Number interviewed, Applicant outcome and notification, Selecting official, Re-announcement (Position cancelations, Date fingerprinted, Background check data, Physician Comp Panel and Standards, Board data).

3. Bonus data, including Executive/Senior Executive Service (Pay band and band max pay, Proposed pay adjustment, Proposed rating, Approved rating, Approved bonus pay, Actual pay, Rank award), Type, Previous year nomination and award amount, Current year nomination (Bonus pool total, Local bonus funding amount, Form Uploads), Appraisal, High level reviews, Comments, Bonus justification, Rank award nominations, Non-Executive (each Fiscal Year) (Rating, Award amount, Pay adjustment (Yes/No)).

4. Workgroups and Organizations, including just under 100 codes—not job occupation series codes—code developed for the All-Employee Survey (Agency selection, Veterans Affairs, VHA, VBA, NCA), Agency networks, Agency organizations, Formal and informal name, Organization type, Network, Physical location, Duty Code, Complexity Level, Station number, Workgroup supervisory designations, Workgroup coordinator assignment, Workgroup coordinator contact info.

5. Development Plans, including Uploaded text document (Document filled from template, Free text employee documentation).

6. Funding, including Program funding, Program funds available, Reimbursement type, Appropriation code, Fiscal contact name and phone, Amount per employee, Fund control point, Requested average salary, Approved funds, Withdrawn funds, Date funding sent, Approval funding comments, Approved Full Time Equivalents dollars, Cost center.

7. Career Programs, including Program Eligibility criteria, Program waiver, Program employee applied, Class title, Program/Class year, School name and state, Major, Anticipated graduation date, Application status, Employment history, Education history, Competency data (application questions and answers), Applicant endorsers, Class administrator assignments, Employee list per class, Program completion status, Requested number of student hires, Requested funding for student salary, Student work schedule, Number Full Time Equivalents requested.

8. Workforce Planning (Annual Corporate Office and VISNs), including Planning team members, Strategic direction, Historical analysis (Employee reason to leave, Equal employment opportunity category of employee), Projected workforce-rational and issues, Recruitment and Retention programs used, Leadership programs/activities and participation, Workplace morale assessment, Work plan comments.

9. Mentor and Coach Information, including Mentor status, Coach status, Core training (Courses, Date and location, Training instructors, Training history), Certification level, Education, Biographical information, Availability, Practical experience years, hours and event.

10. Perseus Survey Software, including Employee legal name, Last 4 of Social Security number, VISNs, Facility/Office, Work Setting (Section/Division/Campus/Product Line/Service/Department), Occupation, Identification of supervisory chain of command, Identification of boss, Identification of peer and subordinate relationships, Demographic information (Gender, Age, Race/National Origin, Tenure, Grade Level), Data Input in Response to survey questions (questionnaires which cover the following types of topics as an example:

○ Assessment Inventories, such as 360 Assessments, WES/MBI Instruments

○ Customer Satisfaction surveys/evaluations (High Performance Development Model, Health Care Retention and Recruitment Office, National Center for Organizational Development, Delegated Examining Units, Workforce Management and Consulting Office)

○ Organizational assessment instruments such as Civility, Respect and Engagement in the Workplace Evaluation, VA Nursing Outcomes Database Registered Nursing survey, Education Inventories, Center for Faith Based and Community Initiatives Communications survey, Aggressive Behavior Prevention Survey, Integrated Ethics Workbook, Methicillin Resistant Staphylococcus Aureus, Office of Personal Management All Employee Survey, Exit/Entrance Surveys, Organizational Climate Assessment Program surveys, surveys for specific facilities/offices

○ Program Assessments/Proficiency surveys such as Technical Career Field Return on Investment survey, Supervisory Training Pre/Post Test surveys, Human Resource Proficiency Tracking survey

○ Professional Assessment surveys such as Executive Career Field Candidate/Mentor questionnaires, Acting Director/Senior Executive Service applicant assessments

11. Program Management, including Inquiry Status, Inquiry date, Enrollment status, Enrollment date, Pairing status, Open/closed status, Referral source, Close reason, Survey status, Service start and end dates, Target group, Group location, Organizational chart, Service requested, Organizational opportunities/challenges, Complaints, Barriers to work, Signed agreement.

12. Service contact information, including Contact dates, Contact time, Contact type, Contact notes.

13. Development Assessments, including Assessment type, Results and summaries.

14. Employee Requesting Information, including Leadership interests and experiences, Number of direct reports, Current role descriptors, Self-described characteristics, Readiness for change, Current and future role preferences and Aspirations.

15. Credentialing Audio Recordings and Transcripts, including Audio files.

RECORD SOURCE CATEGORIES:

Information in this system of records is provided by VA's employees associated to VA Medical Centers, VA Central Offices, VBA, NCA, VHA Central Offices, VHA Canteen, VISNs and facilities.

ROUTINE USES OF RECORDS MAINTAINED IN THE SYSTEM, INCLUDING CATEGORIES OF USERS AND THE PURPOSES OF SUCH USES:

1. Congress: To a Member of Congress or staff acting upon the Member's behalf when the Member or staff requests the information on behalf of, and at the request of, the individual who is the subject of the record.

2. National Archives and Records Administration (NARA): To the NARA in records management inspections conducted under 44 U.S.C. 2904 and 2906, or other functions authorized by laws and policies governing NARA operations and VA records management responsibilities.

3. DOJ, Litigation, Administrative Proceeding: To the Department of Justice (DoJ), or in a proceeding before a court, adjudicative body, or other administrative body before which VA is authorized to appear, when:

(a) VA or any component thereof;

(b) Any VA employee in his or her official capacity;

(c) Any VA employee in his or her official capacity where DoJ has agreed to represent the employee; or

(d) The United States, where VA determines that litigation is likely to affect the agency or any of its components,

is a party to such proceedings or has an interest in such proceedings, and VA determines that use of such records is relevant and necessary to the proceedings.

4. Contractors: To contractors, grantees, experts, consultants, students, and others performing or working on a contract, service, grant, cooperative agreement, or other assignment for VA, when reasonably necessary to accomplish an agency function related to the records.

5. Law Enforcement: To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature.

6. Federal Agencies, Fraud and Abuse: To other Federal agencies to assist such agencies in preventing and detecting possible fraud or abuse by individuals in their operations and programs.

7. Data Breach Response and Remediation, for VA: To appropriate agencies, entities, and persons when (1) VA suspects or has confirmed that there has been a breach of the system of records; (2) VA has determined that as a result of the suspected or confirmed breach there is a risk to individuals, VA (including its information systems, programs, and operations), the Federal Government, or national security; and (3) the disclosure made to such agencies, entities, or persons is reasonably necessary to assist in connection with VA efforts to respond to the suspected or confirmed breach or to prevent, minimize, or remedy such harm.

8. VA may disclose any audio files and accompanying transcripts to coaching credentialing entities for the sole purpose of evaluation of a coach who is applying for an advanced coaching credential.

9. Data Breach Response and Remediation, for Another Federal Agency: To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. Equal Employment Opportunity Commission (EEOC): To EEOC in the connection with investigations of alleged or possible discriminatory practices, examination of Federal affirmative employment programs, or other functions of the Commission as authorized by law.

11. Federal Labor Relations Authority (FLRA): To the FLRA in connection with: the investigation and resolution of allegations of unfair labor practices, the resolution of exceptions to arbitration awards when a question of material fact is raised; matters before the Federal Service Impasses Panel; and the investigation of representation petitions and the conduct or supervision of representation elections.

12. Merit Systems Protection Board (MSPB): To a former VA employee or contractor, as well as the authorized representative of a current or former employee or contractor of VA, in proceedings before the MSPB in connection with appeals, special studies of the civil service and other merit systems, review of rules and regulations, investigation of alleged or possible prohibited personnel practices, and such other functions promulgated in 5 U.S.C. 1205 and 1206, or as otherwise authorized by law.

POLICIES AND PRACTICES FOR STORAGE OF RECORDS:

Records are maintained on servers at the Olin E. Teague Veterans' Center, 1901 Veterans Memorial Drive, Temple, Texas 76504 and backup servers at Cyxtera—CenturyLink Federal Site 322, 350 E Cermak, Chicago, IL 60616.

POLICIES AND PRACTICES FOR RETRIEVAL OF RECORDS:

Records in this system are retrieved by name, social security number, position number, organization number, or other assigned identifiers of the organizations, positions or individuals on whom they are maintained.

POLICIES AND PRACTICES FOR RETENTION AND DISPOSAL OF RECORDS:

The records are disposed of in accordance with GRS 5.2, Item 020.

ADMINISTRATIVE, TECHNICAL, AND PHYSICAL SAFEGUARDS:

1. Access to and use of national administrative databases, warehouses, and data marts are limited to those persons whose official duties require such access, and VA has established security procedures to ensure that access is appropriately limited. Information security officers and system data stewards review and authorize data access requests. VA regulates data access with security software that authenticates users and requires individually unique codes and passwords. VA requires information security training for all staff and instructs staff on the responsibility each person has for safeguarding data confidentiality.

2. Physical access to computer rooms housing national administrative databases, warehouses, and data marts is restricted to authorized staff and protected by a variety of security devices. Unauthorized employees, contractors, and other staff are not allowed in computer rooms.

3. Data transmissions between operational systems and national administrative databases, warehouses, and data marts maintained by this system of record are protected by state-of-the-art telecommunication software and hardware. This may include firewalls, intrusion detection devices, encryption, and other security measures necessary to safeguard data as it travels across the Wide Area Network.

RECORD ACCESS PROCEDURES:

Individuals seeking information on the existence and content of records in this system pertaining to them should contact the system manager in writing as indicated above or may write, call or visit the VA facility location where they are or were employed or made contact. A request for access to records must contain the requester's full name, address, telephone number, be signed by the requester, and describe the records sought in sufficient detail to enable VA personnel to locate them with a reasonable amount of effort.

CONTESTING RECORD PROCEDURES:

Individuals seeking to contest or amend records in this system pertaining to them should contact the system manager in writing as indicated above or may write, call or visit the VA facility location where they are or were employed or made contact. A request to contest or amend records must state clearly and concisely what record is being contested, the reasons for contesting it, and the proposed amendment to the record.

NOTIFICATION PROCEDURES:

Generalized notice is provided by the publication of this notice. For specific notice, see Record Access Procedure, above.

EXEMPTIONS PROMULGATED FOR THE SYSTEM:

None.

HISTORY:

75 FR 7651 (February 22, 2010), 83 FR 11297 (March 14, 2018).

[FR Doc. 2023-13681 Filed 6-27-23; 8:45 am]

BILLING CODE P